FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 11, 2013.

A. Federal Reserve Bank of Minneapolis (Jacqueline G. King, Community Affairs Officer) 90 Hennepin Avenue, Minneapolis, Minnesota 55480-0291:

1. Andrew W. Schmidt and Edward K. Massee, both of Appleton, Minnesota, as members of the Schmidt Family Group and the Massee Family Group; to acquire voting shares of MPS Investment Company, and thereby indirectly acquire voting shares of Farmers and Merchants State Bank, both in Appleton, Minnesota.

Board of Governors of the Federal Reserve System, February 19, 2013.
Robert deV. Frierson,
Secretary of the Board.

[FR Doc. 2013-04085 Filed 2-21-13; 8:45 am]

BILLING CODE 6210-01-P